ENVIRONMENTAL PROTECTION AGENCY

[ER-FRL-9039-7]

Environmental Impact Statements; Notice of Availability

Responsible Agency: Office of Federal Activities, General Information (202) 564-7156 or https://www2.epa.gov/nepa/.

Weekly receipt of Environmental Impact Statements

Filed 05/28/2018 Through 06/01/2018

Pursuant to 40 CFR 1506.9.

Notice

Section 309(a) of the Clean Air Act requires that EPA, make public its comments on EISs issued by other, Federal agencies. EPA's comment letters on EISs are available at: https://cdxnodengn.epa.gov/cdx-enepa-public/action/eis/search.

EIS No. 20180119, Final, BPA, NAT, Walla Walla Basin Spring Chinook Hatchery Program, Review Period Ends: 07/09/2018, Contact: Chad Hamel 503-230-5564.

EIS No. 20180120, Final Supplement, NRC, NY, Generic Environmental Impact Statement for License Renewal of Nuclear Plants Supplement 38 Regarding Indian Point Nuclear Generating Unit Nos. 2 and 3, Review Period Ends: 07/09/2018, Contact: William Burton 301-415-6332

EIS No. 20180121, Draft Supplement, USACE, NM, Middle Rio Grande Flood Protection Bernalillo to Belen New Mexico Integrated General Reevaluation Report and Supplemental Environmental Impact Statement, Comment Period Ends: 07/23/2018, Contact: Michael D. Porter 505-342-3264

EIS No. 20180122, Draft, NRC, LA, Generic Environmental Impact Statement for License Renewal of Nuclear Plants, Supplement 58, Regarding River Bend Station, Unit 1, Comment Period Ends: 07/23/2018, Contact: David Drucker 301-415-6223

EIS No. 20180123, Draft, FERC, CA, Yuba River Development Project, Comment Period Ends: 07/30/2018, Contact: Alan Mitchnick 202-502-6074

EIS No. 20180124, Draft, USFS, MT, Draft Environmental Impact Statement for the Draft Revised Forest Plan Helena—Lewis and Clark National Forest, Comment Period Ends: 09/06/2018, Contact: Deborah Entwistle 406-495-3774

EIS No. 20180125, Draft Supplement, USACE, WA, Mill Creek Flood Control Project Operations and Maintenance, Comment Period Ends: 07/23/2018, Contact: Benjamin Tice 509-527-7267

EIS No. 20180126, Draft, USACE, FL, Central Everglades Planning Project South Florida Water Management District Section 203 Everglades Agricultural Area Southern Reservoir and Stormwater Treatment Area, Comment Period Ends: 07/24/2018, Contact: Stacie Auvenshine 904-314-7614

EIS No. 20180127, Draft, USFS, WA, Sunrise Vegetation and Fuels Management, Comment Period Ends: 08/09/2018, Contact: Johnny Collin 509-843-4643

EIS No. 20180128, Final, USFS, CO, Steamboat Ski Area Improvements, Review Period Ends: 07/17/2018, Contact: Erica Dickerman 970-870-2185

Amended Notice

Revision to the Federal Register Notice published 06/01/2018, extend comment period from 07/24/2018 to 07/31/2018,

EIS No. 20180111, Draft, NMFS, NAT, Draft Environmental Impact Statement for Issuing Annual Catch Limits to the Alaska Eskimo Whaling Commission for a Subsistence Hunt on Bowhead Whales for the Years 2019 and Beyond, Contact: John Henderschedt, 301-427-8385

Dated: June 5, 2018.
Rob Tomiak,
Director, Office of Federal Activities.

[FR Doc. 2018-12334 Filed 6-7-18; 8:45 am]

BILLING CODE 6560-50-P